ENVIRONMENTAL PROTECTION AGENCY

[FRL-8575-9]

Coastal Elevations and Sea Level Rise Advisory Committee Charter Renewal

AGENCY: Environmental Protection Agency (EPA).

ACTION: Notice of charter renewal.

The Charter for the Environmental Protection Agency's Coastal Elevations and Sea Level Rise Advisory Committee (CESLAC) will be renewed for an additional two-year period, as a necessary committee which is in the public interest, in accordance with the provisions of the Federal Advisory Committee Act (FACA), 5 U.S.C. App. 2 section 9(c). The purpose of the CESLAC is to provide advice on the conduct of a study titled Coastal Elevations and Sensitivity to Sea Level Rise to be conducted as part of the U.S. Climate Change Science Program (CCSP).

It is determined that CESLAC is in the public interest in connection with the performance of duties imposed on the Agency by law.

FOR FURTHER INFORMATION CONTACT: Jack Fitzgerald (6207J), Climate Change Division, Office of Atmospheric Programs, Environmental Protection Agency, 1200 Pennsylvania Avenue, NW., Washington, DC 20460; telephone number: (202) 343-9336; e-mail address: Fitzgerald.jack@epa.gov.

Dated: March 23, 2008.
Robert J. Meyers,
Principal Deputy Assistant Administrator, Office of Air and Radiation.

[FR Doc. E8-12599 Filed 6-6-08; 8:45 am]

BILLING CODE 6560-50-M